DEPARTMENT OF LABOR

Office of the Secretary

Submission for OMB Review: Comment Request

December 14, 2006.

The Department of Labor (DOL) has submitted the following public information collection requests (ICR) to the Office of Management and Budget (OMB) for review and approval in accordance with the Paperwork Reduction Act of 1995 (Pub. L. 104-13, 44 U.S.C. chapter 35). A copy of each ICR, with applicable supporting documentation, may be obtained from RegInfo.gov at http://www.reginfo.gov/public/do/PRAMain or by contacting Darrin King on 202-693-4129 (this is not a toll-free number)/e-mail: king.darrin@dol.gov.

Comments should be sent to the Office of Information and Regulatory Affairs, Attn: OMB Desk Officer for the Occupational Safety and Health Administration (OSHA), Office of Management and Budget, Room 10235, Washington, DC 20503, Telephone: 202-395-7316/Fax: 202-395-6974 (these are not a toll-free numbers), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension without change of currently approved collection.

Title: 4,4′-Methylenedianiline Construction 29 CFR 1926.60.

OMB Number: 1218-0183.

Type of Response: Recordkeeping and third-party disclosure.

Affected Public: Business or other for-profits.

Number of Respondents: 60.

Number of Annual Responses: 3,960.

Estimated Time per Response: Varies by task.

Total Burden Hours: 1,607.

Total Annualized capital/startup costs: $0.

Total Annual Costs (operating/maintaining systems or purchasing services): $80,412.

Description: The purpose of this Standard and its information collection requirements is to provide protection for employees from adverse health effects associated with occupational exposure to 4,4'-Methylenedianiline. Employers must monitor exposure, keep employee exposures within the permissible exposure limits, provide employees with medical examinations and training, and establish and maintain employee exposure-monitoring and medical records.

Agency: Occupational Safety and Health Administration.

Type of Review: Extension without change of currently approved collection.

Title: 4,4′-Methylenedianiline General Industry 29 CFR 1910.1050.

OMB Number: 1218-0184.

Type of Response: Recordkeeping and third-party disclosure.

Affected Public: Business or other for-profits.

Number of Respondents: 13.

Number of Annual Responses: 583.

Estimated Time per Response: Varies by task.

Total Burden Hours: 293.

Total Annualized capital/startup costs: $0.

Total Annual Costs (operating/maintaining systems or purchasing services): $19,312.

Description: The purpose of this Standard and its information collection requirements is to provide protection for employees from adverse health effects associated with occupational exposure to 4,4-Methylenedianiline. Employers must monitor exposure, keep employee exposures within the permissible exposure limits, provide employees with medical examinations and training, and establish and maintain employee exposure-monitoring and medical records.

Agency: Occupational Safety and Health Administration.

Type of Review: Extension without change of currently approved collection.

Title: Electrical Protective Equipment (29 CFR 1910.137), and Electric Power Generation, Transmission, and Distribution (29 CFR 1910.269).

OMB Number: 1218-0190.

Type of Response: Recordkeeping and third-party disclosure.

Affected Public: Business or other for-profits.

Number of Respondents: 20,765.

Number of Annual Responses: 437,884.

Estimated Time per Response: Varies by task.

Total Burden Hours: 30,533.

Total Annualized capital/startup costs: $0.

Total Annual Costs (operating/maintaining systems or purchasing services): $0.

Description: The information collection requirements are needed to help provide protection to employees who use electrical protective equipment and who are involved in industries engaged in electric power generation, transmission, and distribution work.

Agency: Occupational Safety and Health Administration.

Type of Review: Extension without change of currently approved collection.

Title: Standard on Walking-Working Surfaces (29 CFR part 1910, subpart D).

OMB Number: 1218-0199.

Type of Response: Third-party disclosure.

Affected Public: Business or other for-profits.

Number of Respondents: 12,100.

Number of Annual Responses: 12,100.

Estimated Time per Response: Varies by task.

Total Burden Hours: 1,193.

Total Annualized capital/startup costs: $0.

Total Annual Costs (operating/maintaining systems or purchasing services): $0.

Description: The information collection requirements in the Walking-Working Surfaces standard is designed to protect employees by making them aware of load limits of the floors of buildings, defective portable metal ladders, and the specifications of outrigger scaffolds used.

Agency: Occupational Safety and Health Administration.

Type of Review: Extension without change of currently approved collection.

Title: OSHA Data Initiative (ODI).

OMB Number: 1218-0209.

Type of Response: Reporting.

Affected Public: Business or other for-profits.

Number of Respondents: 100,000.

Number of Annual Responses: 100,000.

Estimated Time per Response: 10 minutes.

Total Burden Hours: 16,666.

Total Annualized capital/startup costs: $0.

Total Annual Costs (operating/maintaining systems or purchasing services): $0.

Description: The agency will collect occupational injury and illness data from selected employers. These employers will also be required to provide the average employment, hours worked, and the name and phone number of the person submitting the data. The data collection will include mail and telephone follow-up to ask clarifying questions concerning data submitted, and to attempt to obtain responses from non-responders. The purpose of the data collection is to compile occupational injury and illness data from employers within specific industries and size categories. OSHA then will be able to calculate occupational injury and illness rates by employer and specific industry. The agency will require this information from up to 100,000 employers required to create and maintain records pursuant to 29 CFR part 1904.

In each of the previous OSHA Data Initiative (ODI) information collections, beginning with the collection of CY 1995 data, the Agency collected data from approximately 80,000 establishments each year. OSHA used the 1996 data from the 1997 collection as a baseline for both its Cooperative Compliance Program initiative and its Interim Plan for Inspection Targeting. The 1997 through 2004 injury and illness data have been used for OSHA's Site Specific Targeting (SST) plans. Each year the SST plan is updated with the most current data. The SST-06 plan is currently using CY 2004 establishment specific data.

Since 1998, OSHA has used the information from each data collection to identify approximately 14,000 establishments in Federal jurisdiction with high lost workday injury and illness case rates. OSHA sends letters to these establishments indicating its concern about the high injury and illness rate at the establishment and informing the employer of available services, such as the OSHA on-site consultation program, that can be used to identify hazards and address occupational safety and health issues.

OSHA is also using the information collected for measurement purposes to comply with the Government Performance and Results Act (GPRA). It must be noted that limiting this data collection to establishments with 40 or more employees also limits OSHA's ability to fully utilize this data collection to meet the Agency's requirements under the GPRA. A significant portion of OSHA inspections as well as consultation visits are performed at establishments with less than 40 employees. OSHA cannot conduct follow-up data collection to measure the impact of these interventions without authorization to collect from this group of smaller employers. OSHA is seeking approval to collect data from these employers only for performance measurement purposes. Data collected from this group would not be used for OSHA's enforcement activities. Some states operating state plans pursuant to Section 18 of the OSH Act also use the information collected for the same purposes as does Federal OSHA.

Darrin A. King,
Acting Departmental Clearance Officer.

[FR Doc. E6-21631 Filed 12-19-06; 8:45 am]

BILLING CODE 4510-26-P